DEPARTMENT OF ENERGY

Energy Efficient Building Systems Regional Innovation Cluster Initiative—Joint Federal Funding Opportunity Announcement Information Session

AGENCY: Department of Energy (DOE).

ACTION: Notice of public meeting and webcast.

SUMMARY: This notice announces a conference and webcast for potential applicants and other interested parties to learn about the Joint Federal Funding Opportunity Announcement (see http://www.energy.gov/hubs/eric.htm) issued on February 8, 2010, titled the Energy Efficient Building Systems Regional Innovation Cluster Initiative. A single proposal submitted by a consortium of applicants will be funded at a total of up to $129.7 million over 5 years to foster a regional innovation cluster focused on innovation in energy efficient building technologies and systems design. The DOE funded Energy Efficient Building Systems Design Hub (the “Hub”) will serve as a centerpiece of the regional innovation cluster (the “Energy Regional Innovation Cluster” or “E-RIC”) and will work to disseminate new technologies into the local marketplace and share best practices with the public and private sectors. By linking researchers in the Hub with local businesses and supporting specialized workforce education and training in the area, the E-RIC will create an economically dynamic region focused on energy efficient buildings technologies and systems design. The Hub, one of three Energy Innovation Hubs to be created by the DOE in Fiscal Year 2010, will bring together a multidisciplinary team of researchers ideally working under one roof to conduct high-risk, high-reward research that overcomes technology challenges through approaches that span basic research to engineering development to commercialization readiness. The Hub will work with key partners funded by EDA, NIST, SBA, DOL, ED and NSF to foster the Energy Regional Innovation Cluster and leverage the collective resources and expertise of the seven federal agencies involved. At this public meeting, representatives from these agencies will discuss the goals and requirements of the joint FOA and answer any questions. To attend the conference or participate in the webcast, please go to http://www.energy.gov/hubs/apply.htm and follow the link to the information session site. Please identify your affiliation and state whether you will attend the in-person conference or participate in the webcast.

DATES: Monday, February 22, 2010, 10 a.m.-6 p.m. (Registration begins at 9 a.m.)

ADDRESSES: Ronald Reagan Building and International Trade Center Amphitheater (Concourse Level—closest to Pennsylvania Ave entrance), 1300 Pennsylvania Avenue, NW., Washington, DC.

FOR FURTHER INFORMATION CONTACT: Megan Gatten at MGatten@smithbucklin.com.

SUPPLEMENTARY INFORMATION: Purpose of the Meeting: To communicate the goals and requirements of the Joint Federal Funding Opportunity Announcement (FOA) for the Energy Efficient Building Systems Regional Innovation Cluster Initiative and to answer questions related to the FOA.

Tentative Agenda (Subject To Change)

9 a.m.-10 a.m. Registration

10 a.m.-10:15 a.m. Welcome and Overview of RIC Interagency Taskforce

10:15 a.m.-11:10 a.m. Overview of Regional Innovation Clusters

11:10 a.m.-11:30 a.m. The Need for Energy Efficient Building Innovations

11:30 a.m.-12:15 p.m. Overview of the Joint FOA

12:15 p.m.-1:15 p.m. Lunch Break

1:15 p.m.-4 p.m. Presentations by Participating Agencies

4 p.m.-4:30 p.m. Discussion of submission requirements and procedures

4:30 p.m.-4:50 p.m. Break

4:50 p.m.-5:50 p.m. Questions and Answers

5:50 p.m.-6 p.m. Closing Remarks

Public Participation: In keeping with procedures, members of the stakeholder community and the general public are welcome to observe the business of the conference and to submit their questions. To attend the conference or participate in the webcast, please go to http://www.energy.gov/hubs/apply.htm and follow the link to the information session site. Please state whether you will attend the in-person conference or participate in the webcast, and what organization you represent (if appropriate).

Reasonable provision will be made to answer all questions during the meeting and webcast. If you would like to file a written question, you may do so at the meeting or during the webcast, or by contacting the appropriate person identified on the E-RIC Web site at http://www.energy.gov/hubs/contact_us.htm.

Minutes: The minutes of the meeting will be available for public review at http://www.energy.gov/hubs/eric.htm.

Issued in Washington, DC, on February 16, 2010.
Henry Kelly,
Principal Deputy Assistant Secretary, Energy Efficiency and Renewable Energy, Department of Energy.

[FR Doc. 2010-3303 Filed 2-18-10; 8:45 am]

BILLING CODE 6450-01-P